DEPARTMENT OF STATE

[Public Notice 3798]

Notice of Meetings; United States International Telecommunication Advisory Committee, 2002 International Telecommunication Union, Plenipotentiary Conference, and 2002 World Telecommunication Development Conference

The Department of State announces meetings of the U.S. International Telecommunication Advisory Committee. The purpose of the Committee is to advise the Department on policy and technical issues with respect to the International Telecommunication Union (ITU). The purpose of these meetings is to prepare for the 2002 Plenipotentiary Conference and the 2002 World Telecommunication Development Conference.

An ITAC meeting will be held on Tuesday, October 30, 2001, at the Federal Communications Commission in Room 6-B516 from 1:30 pm to 3 pm to initiate the review of ITU Plenipotentiary Conference issues. Additional meetings are scheduled concerning preparations for the Plenipotentiary Conference on Tuesday, November 27, 2001, on Tuesday, December 18, 2001, on Tuesday, January 15, 2002, on Tuesday, February 5, 2002, and on Tuesday, March 12, 2002. All of these subsequent meetings are scheduled to begin at 1:30 pm and will be at the Department of State in rooms yet to be determined.

An ITAC meeting concerned with preparations for the 2002 World Telecommunication Development Conference (WTDC) will be held on Thursday, November 1, 2001 from 2 pm to 4 pm in Room 1408 of the State Department. Additional meetings on preparations for the WTDC are scheduled for Thursday, November 15, 2001, Thursday, November 29, 2001, and Thursday, December 20, 2001. Other meeting dates will be announced at the initial meeting.

Members of the general public may attend these meetings. Directions to meeting location and actual room assignments may be determined by calling the ITAC Secretariat at (202) 647-0965/2592. Entrance to the State Department and the Federal Communications Commission is controlled; in order to get precleared for each meeting, people planning to attend should send an e-mail to williamscd@state.gov no later than 48 hours before the meeting. This e-mail should include the name of the meeting and date of meeting, your name, social security number, date of birth, and organizational affiliation. One of the following valid photo identifications will be required for admission to the State Department and the Federal Communications Commission: U.S. driver's license, passport, U. S. Government identification card. Enter the Department of State from the C Street Lobby; in view of escorting requirements, non-Government attendees should plan to arrive not less than 15 minutes before the meeting begins.

Attendees may join in the discussions, subject to the instructions of the Chair. Admission of participants will be limited to seating available.

Dated: October 11, 2001.
Doreen F. McGirr,
Director, Telecommunications Development, U.S. Department of State.

[FR Doc. 01-26310 Filed 10-15-01; 2:36 pm]

BILLING CODE 4710-45-P